DEPARTMENT OF ENERGY

Federal Energy Regulatory Commission

[Docket No. RP04-265-000]

Northern Natural Gas Company; Notice of Tariff Filing

April 27, 2004.

Take notice that on April 23, 2004, Northern Natural Gas Company (Northern) tendered for filing to become part of its FERC Gas Tariff, Fifth Revised Volume No. 1 the following tariff sheets, with an effective date of May 24, 2004:

Third Revised Sheet No. 136

First Revised Sheet No. 142A

Fifth Revised Sheet No. 145

Original Sheet No. 442B

Original Sheet No. 442C

Northern states that it is filing the above-referenced tariff sheets to provide for an FDD Consolidation Agreement and to clarify the applicability of storage and transport fees related to the transfer of FDD, PDD and IDD account balances of a single shipper or between multiple shippers.

Northern further states that copies of the filing have been mailed to each of its customers and interested State Commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E4-981 Filed 4-30-04; 8:45 am]

BILLING CODE 6717-01-P